DEPARTMENT OF DEFENSE

Department of the Army

[Docket ID USA-2011-0024]

Privacy Act of 1974; System of Records

AGENCY: Department of the Army, Department of Defense (DoD).

ACTION: Notice to add a system of records.

SUMMARY: The Department of the Army proposes to add a system of records to its inventory of record systems subject to the Privacy Act of 1974 (5 U.S.C. 552a), as amended.

DATES: This proposed action would be effective without further notice on November 3, 2011 unless comments are received which result in a contrary determination.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Leroy Jones, Department of the Army, Privacy Office, U.S. Army Records Management and Declassification Agency, 7701 Telegraph Road, Casey Building, Suite 144, Alexandria, VA 22325-3905, or by phone at (703) 428-6185.

SUPPLEMENTARY INFORMATION: The Department of the Army notices for systems of records subject to the Privacy Act of 1974 (5 U.S.C. 552a), as amended, have been published in the Federal Register and are available from the address in FOR FURTHER INFORMATION CONTACT.

The proposed system report, as required by 5 U.S.C. 552a(r) of the Privacy Act of 1974, as amended, was submitted on September 29, 2011 to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: September 29, 2011.
Aaron Siegel,
Alternate OSD Federal Register Liaison Officer, Department of Defense.

A0350-20a TRADOC

System Name:

Standardized Student Records System.

System Location:

Army commands, installations and activities.

Deputy Chief of Staff, G-1/4, United States Army Training and Doctrine Command, (ATBO-S), 661 Sheppard Place, Fort Eustis, VA 23604-5752.

Commandant, Command and General Staff College (ATZL-SWD-DR), 100 Stimson Avenue, Fort Leavenworth KS 66027-2301.

Commandant, Defense Language Institute Foreign Language Center (ATFL-CMD-T), 1330 Plummer Street, Monterey, CA 93944-3326.

Commandant, Army Management Staff College (ATZL-SWM-ZA), 5500 21st Street, Building 247, Fort Belvoir, VA 22060-5934.

Commandant, U.S. Army War College (ATWC), 122 Forbes Avenue, Carlisle, PA 17013-5215.

Commandant, Western Hemisphere Institute for Security Cooperation (ATWI-CO), 7161 Richardson Circle, Building 36, Fort Benning, GA 31905-2507.

Categories of Individuals Covered by the System:

Department of the Army, Navy, Marine Corps, Air Force, Reserve Officer Training Corps, National Defense Cadet Corps military personnel, Department of Defense civilian personnel, and approved foreign military personnel enrolled in a resident or non-resident course administered by the Army and enrolled to attend Army training.

Categories of Records in the System:

Course and personnel data to include: Individual's name, Social Security Number (SSN), foreign identification number, and date of birth.

Training Data to Include:

Class number, scheduling, testing, academic, graduation, student, and attrition data.

Personnel Data to Include:

Unit, unit location, citizenship, race, ethnicity, biographical data, travel, purchasing, security, property data, personal cellular number, home mailing address, marital status, financial information, emergency contact information, other names used, birth date, home telephone number, medical, employment and education information, gender, work e-mail address, personal e-mail address, security clearance level, and disability information.

Authority for Maintenance of the System:

10 U.S.C. 3013, Secretary of the Army; 10 U.S.C. 3583 Requirement of Exemplary Conduct; DoD Directive 5105.65, Defense Security Cooperation Agency; DoD Directive 6490.2E, Comprehensive Health Surveillance; DoD Instruction 6490.03, Deployment Health; Army Regulation 12-15, Joint Security Cooperation and Training; Army Regulation 40-5, Preventative Medicine; Army Regulation 40-66, Medical Record Administration and Health Care Documentation; Army Regulation 350-1, Army Training and Leader Development; Army Regulation 350-10, Management of Army Individual Training Requirements and Resources; Army Regulation 350-20, Management of the Defense Foreign Language Program; Army Regulation 600-8-104, Military Personnel Information Management/Records; Army Regulation 600-20, Army Command Policy; and E.O. 9397 (SSN), as amended.

Purpose(s):

Standardized Student Records System purpose is to obtain training, education, experiential learning, personal, and biographical data to present a comprehensive and personalized view of the student record, course enrollment, course completion, official grade transcript, statistical studies to improve training and testing methods, and course catalog information. Records are created to assist leadership to instill an ongoing attitude of comprehensive, continuous, and consistent military health surveillance to implement early intervention and control strategies to promote and safeguard the moral, the physical well-being, and the general welfare of personnel at TRADOC organizations.

Routine uses of records maintained in the system, including categories of users and the purpose of such uses:

In addition to those disclosures generally permitted under 5 U.S.C. 552a(b) of the Privacy Act of 1974, these records contained therein may specifically be disclosed outside the DoD as a routine use pursuant to 5 U.S.C. 552a(b)(3) as follows:

The DoD ‘Blanket Routine Uses' set forth at the beginning of the Army's compilation of system of record notices apply to this record system.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and Practices for Storing, Retrieving, Accessing, Retaining, and Disposing of Records in the System:

Storage:

Paper records and electronic storage media.

Retrievability:

By name, Social Security Number (SSN), foreign identification number, service number, class number, language, year of graduation, and date of birth.

Safeguards:

These systems are hosted on Army installations, in a secure environment. Building security is through police patrols, installation fences, key card access, building-server room alarms and cameras. System access is through the Army Network Enterprise Center's firewall. Each user requires a user ID and password (which has to be changed each 90 days). Direct access to the database is restricted to authorized System Administrators (SAs) only. Servers are located in a cipher locked room and access is controlled by the SA. Any person having access to personally identifiable information (PII) is specific only to them once they have been authenticated in the pertinent system through an incorporated security process, such as the implementation of User ID/Password—Common Access Cards (CAC); CAC optional but being mandated for CAC only access with the safeguards listed above. All personnel with access to PII are trained in Security+ certifications, to ensure they are current on new security standards.

Retention and Disposal:

Records are kept in current file area until no longer needed for conducting business, then retired to Records Holding Area (RHA)/Army Electronic Archive (AEA) or destroyed.

Individual academic records are transferred to the RHA/AEA, and are retired to National Records Personnel Center (NRPC) Annex, 1411 Boulder Drive, Rock City Industrial Center, Valmeyer, IL 62295-2603, when the record is 10 years old. The NPRC will destroy the record when 40 years old.

Instructor records are transferred to the RHA/AEA after transfer or separation of instructor, and are destroyed 10 years after the event.

Office personnel records are kept until transfer or separation of individual. Keep in CFA until event occurs and then until no longer needed for conducting business, but not longer than 6 years after the event, then destroy or transfer to the gaining activity; whether it is an on or off post transfer.

Records on local training and individual goals are maintained until no longer needed for conducting business, but not longer than 6 years, then destroyed.

Destroy electronic media by deletion; destroy paper printout by shredding or burning.

System Manager(s) and Address:

Deputy Chief of Staff, G-1/4, United States Army Training and Doctrine Command, (ATBO-S), 661 Sheppard Place, Fort Eustis, VA 23604-5752.

Commandant, Command and General Staff College (ATZL-SWD-DR), 100 Stimson Avenue, Fort Leavenworth, KS 66027-2301.

Commandant, Defense Language Institute Foreign Language Center (ATFL-CMD-T), 1330 Plummer Street, Monterey, CA 93944-3326.

Commandant, Army Management Staff College (ATZL-SWM-ZA), 5500 21st Street, Building 247, Fort Belvoir, VA 22060-5934.

Commandant, U.S. Army War College (ATWC), 122 Forbes Avenue, Carlisle, PA 17013-5215.

Commandant, Western Hemisphere Institute for Security Cooperation (ATWI-CO), 7161 Richardson Circle, Building 36, Fort Benning, GA 31905-2507.

Notification Procedure:

Individuals seeking to determine whether information about themselves is contained in this system should address written inquiries to:

Deputy Chief of Staff, G-1/4, United States Army Training and Doctrine Command, (ATBO-S), 661 Sheppard Place, Fort Eustis, VA 23604-5752.

Commandant, Command and General Staff College (ATZL-SWD-DR), 100 Stimson Avenue, Fort Leavenworth, KS 66027-2301.

Commandant, Defense Language Institute Foreign Language Center (ATFL-CMD-T), 1330 Plummer Street, Monterey, CA 93944-3326.

Commandant, Army Management Staff College (ATZL-SWM-ZA), 5500 21st Street, Building 247, Fort Belvoir, VA 22060-5934.

Commandant, U.S. Army War College (ATWC), 122 Forbes Avenue, Carlisle, PA 17013-5215.

Commandant, Western Hemisphere Institute for Security Cooperation, ATTN: International Student Division (ATWI-CSI), 7161 Richardson Circle, Building 36, Fort Benning, GA 31905-2507.

Individual must furnish his/her full name, Social Security Number (SSN), current address and telephone number, and military status or other information verifiable from the record itself which may assist in locating the record, and their signature.

In addition, the requester must provide a notarized statement or an unsworn declaration made in accordance with 28 U.S.C. 1746, in the following format:

If Executed Outside the United States:

`I declare (or certify, verify, or state) under penalty of perjury under the laws of the United State of America that the foregoing is true and correct. Executed on (date). (Signature)'.

If executed within the United States, its territories, possessions, or commonwealths:

`I declare (or certify, verify, or state) under penalty of perjury that the foregoing is true and correct. Executed on (date). (Signature)'.

Record Access Procedures:

Individuals seeking access to information about themselves contained in this system should address written inquiries to:

Deputy Chief of Staff, G-1/4, United States Army Training and Doctrine Command, (ATBO-S), 661 Sheppard Place, Fort Eustis, VA 23604-5752.

Commandant, Command and General Staff College (ATZL-SWD-DR), 100 Stimson Avenue, Fort Leavenworth, KS 66027-2301.

Commandant, Defense Language Institute Foreign Language Center (ATFL-CMD-T), 1330 Plummer Street, Monterey, CA 93944-3326.

Commandant, Army Management Staff College (ATZL-SWM-ZA), 5500 21st Street, Building 247, Fort Belvoir, VA 22060-5934.

Commandant, U.S. Army War College (ATWC), 122 Forbes Avenue, Carlisle, PA 17013-5215.

Commandant, Western Hemisphere Institute for Security Cooperation, ATTN: International Student Division (ATWI-CSI), 7161 Richardson Circle, Building 36, Fort Benning, GA 31905-2507.

For verification purposes, individual must furnish his/her full name, Social Security Number (SSN), current address and telephone number, and military status or other information verifiable from the record itself which may assist in locating the record, and their signature.

In addition, the requester must provide a notarized statement or an unsworn declaration made in accordance with 28 U.S.C. 1746, in the following format:

If Executed Outside the United States:

`I declare (or certify, verify, or state) under penalty of perjury under the laws of the United State of America that the foregoing is true and correct. Executed on (date). (Signature)'.

If executed within the United States, its territories, possessions, or commonwealths:

`I declare (or certify, verify, or state) under penalty of perjury that the foregoing is true and correct. Executed on (date). (Signature)'.

Record Source Categories:

From DoD personnel to include school registrars; personnel who manage the system to include DoD military and civilian personnel and contractors; faculty who are the facilitators and instructors for the courses, to include DoD military and civilian personnel and contractors. From training and personnel information systems; and health providers, individuals by interview and risk assessment surveys.

Exemptions Claimed for the System:

None.

[FR Doc. 2011-25548 Filed 10-4-11; 8:45 am]

BILLING CODE 5001-06-P